DEPARTMENT OF TRANSPORTATION

Federal Aviation Administration

Notice of the Availability of the Final Environmental Impact Statement (FEIS) for the Proposed Relocation of the Panama City-Bay County International Airport, Panama City, FL; Notice of Significant Encroachment and Unavoidable Impacts to the Base Floodplain; Notice of New Construction Significantly Affecting Wetlands and Finding of No Practicable Alternative

AGENCY: Federal Aviation Administration (FAA), DOT. The U.S. Army Corps of Engineers (USACE) is a cooperating Federal agency, having jurisdiction by law due to the potential for significant wetland impacts.

ACTION: Notice of Availability of Final Environmental Impact Statement

Location of Proposed Action: The proposed airport site (identified as the West Bay Site in the FEIS) is located in northwestern Bay County, Florida, approximately 20 miles north and west of the existing airport site. The Proposed Action includes three mitigation parcels located immediately south of County Road 388 and adjacent to the West Bay.

SUMMARY: The FAA announces that an FEIS for the Proposed Relocation of the Panama City-Bay County International Airport is available for public review. The FEIS includes the section 7 consultation with United States Fish and Wildlife Service (USFWS) regarding the Proposed Action's impact to threatened and endangered species. An Essential Fish Habitat (EFH) and Living Marine Resources (LMR) Assessment is included in the FEIS. The FEIS discusses impacts to the base floodplain and wetlands and measures to mitigate those impacts. The FAA is seeking comments on those sections of the FEIS that have been updated and/or contain additional information not previously contained in the DEIS. Please see SUPPLEMENTARY INFORMATION for a listing of sections of the FEIS and associated appendices that have been updated or contain additional information.

Additional information regarding potential redevelopment of the existing airport site under the West Bay Site alternatives was published following public availability of the Draft Environmental Impact Statement (DEIS). This information has been analyzed and is included in the FEIS for disclosure purposes but is not part of the Proposed Action.

All comments are to be submitted to Virginia Lane of the FAA, at the address shown in the section below entitled “For Further Information or to Submit Comments Contact.” The USACE has requested that the FAA be the recipient of all comments regarding their actions.

The USACE is a cooperating Federal agency for this FEIS, having jurisdiction by law because the proposed federal action has the potential for significant wetland impacts, and would require the USACE to approve issuance of a permit to fill wetlands under section 404 of the Clean Water Act.

SUPPLEMENTARY INFORMATION: The FAA as lead agency and the USACE, as a cooperating agency, have prepared the FEIS for the proposed relocation of the Panama City-Bay County International Airport. FAA published a DEIS in November 2004. The DEIS was prepared pursuant to the National Environmental Policy Act of 1969 (NEPA). The DEIS assessed the potential impacts of five proposed action alternatives, described as the Existing Site—No-Action Alternative, Existing Site—Extend Runway 14-32, 6,800 Feet Southeast, Existing Site—Extend Runway 14-32, 8,400 Feet Southeast, West Bay Site—Runway 16-34, 6800 Feet (referred to in the FEIS as Scenario 1), and the West Bay Site—Runway 16-34, 8,400 Feet (Sponsor's Proposed Project). The FEIS additionally analyses one alternative that was identified during the comment period on the DEIS. This alternative is identified in the FEIS as the Existing Site—Extend Runway 14-32, 6,800 Feet Southeast EMAS Scenario 2.

The proposes airport relocation site (West Bay Site) encompasses a total of approximately 4,037 acres and would accommodate both short- and long-term aviation needs as described in the FEIS. The Airport Sponsor proposes to construct a primary runway of 8,400 feet, a crosswind runway of 5,000 feet, and associated aviation support facilities as part of an initial development plan encompassing approximately 1,378 acres. Under this proposal, the existing airport facilities would be decommissioned, and facilities and operations at the existing site would be relocated to the West Bay site. The Airport Sponsor is also seeking the other necessary FAA approvals to implement the Proposed Action and associated capital improvements and procedures.

FAA will not make a decision on the Proposed Act for a minimum 45 days following publication of this Notice of Availability of the FEIS in the Federal Register. FAA will record the appropriate decision or decisions in a Record of Decision.

Copies of the FEIS are available for public review at the following locations:

• Panama City-Bay County International Airport Administration Office, 3173 Airport Road, Panama City, Florida 32405. (850) 763-6751.

• Bay County Public Library, 26 West Government Street, Panama City, Florida 32401. (850) 872-7500.

• U.S. Army Corps of Engineers, Panama City Regulatory Office, 1002 West 23rd Street, Suite 350, Panama City, Florida 32405. (850) 763-0717.

• Federal Aviation Administration, Orlando Airports District Office, 5950 Hazeltine National Drive, Suite 400, Orlando, Florida 32822. (407) 812-6331.

The Panama City-Bay County International Airport Administration Office has a limited number of CDs of the FEIS available for public distribution. Please contact that office for a copy. The FEIS may also be viewed at the following Web site http://www.pcairport.bechtel.com.

The FAA is seeking comments on updated and/or refined information in the following sections of the FEIS and the associated appendices:

Volume I—Technical Documentation

Chapter 1—Section 1.7.2

Chapter 2—Sections 2.2.2, 2.2.3, and 2.6.3

Chapter 3—Sections 3.2.8, 3.6.4, 3.9.10, 3.10.5, 3.11, 3.12, and 3.13

Chapter 4—Sections 4.6, 4.7.4, 4.10.7, 4.12.3, and 4.21

Chapter 5—Sections 5.1, 5.2.2, 5.3.2, 5.4.1, 5.6, 5.7.2, 5.8, 5.9, 5.10, 5.11, 5.12, 5.13, 5.14, 5.15, 5.18, 5.20, 5.21, 5.22, 5.23, and 5.26

Chapter 6—Sections 6.3, .4, and 6.5

Chapters 7, 8, 9, 10, and 11

Volume II—Appendix

Appendices D, G, J, K, L, M, P, Q, R, S, T, U, V, W, X

Volume III—Responses to Comments—Federal, State, and Local Agencies

Volume IV—Responses to Comments—Public Individuals

Volume V—Responses to Comments—Public Organizations

The FEIS will be available for public review for 45 days. Written comments on the sections of the document identified above should be submitted to the address listed in For Further Information or to Submit Comments Contact. The comment period begins as of the date of this Notice of Availability and all comments must be received no later than 5 p.m., Eastern Daylight Time on Wednesday, July 5, 2006.

For Further Information or to Submit Comments Contact: Virginia Lane, Environmental Specialist, Federal Aviation Administration, Orlando Airports District Office, 5950 Hazeltine National Drive, Suite 400, Orlando, Florida 32822. Telephone (407) 812-6331 Extension 129. Comments can only be accepted with the full name and address of the individual commenting.

Issued in Orlando, Florida on May 10, 2006.
W. Dean Stringer,
Manager, Orlando Airports District Office.

[FR Doc. 06-4411 Filed 5-11-06; 8:45 am]

BILLING CODE 4910-13-M